DEPARTMENT OF TRANSPORTATION

Federal Aviation Administration

14 CFR Part 39

[Docket No. FAA-2024-1469; Project Identifier MCAI-2024-00130-T]

RIN 2120-AA64

Airworthiness Directives; Bombardier, Inc., Airplanes

AGENCY: Federal Aviation Administration (FAA), DOT.

ACTION: Notice of proposed rulemaking (NPRM).

SUMMARY: The FAA proposes to supersede Airworthiness Directive (AD) 2009-25-13, which applies to certain Bombardier, Inc., Model BD-100-1A10 (Challenger 300) airplanes. AD 2009-25-13 requires the deactivation of the left-hand (LH) baggage bay heater mat. Since the FAA issued AD 2009-25-13, Bombardier developed a new design solution for the potential uncontrolled heating of the baggage bay sidewall heater mat. This proposed AD would retain the requirements of AD 2009-25-13, and would also require modifying the baggage bay sidewall interior panel, heater mat, and water tank heater installation, and doing functional testing. Upon the completion of the new actions, the retained requirements of AD 2009-25-13 would terminate. This proposed AD would also revise the applicability and prohibit the installation of affected parts. The FAA is proposing this AD to address the unsafe condition on these products.

DATES: The FAA must receive comments on this proposed AD by July 8, 2024.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-1469; or in person at Docket Operations between 9 a.m. and 5 p.m., Monday through Friday, except Federal holidays. The AD docket contains this NPRM, the mandatory continuing airworthiness information (MCAI), any comments received, and other information. The street address for Docket Operations is listed above.

Material Incorporated by Reference:

• For Bombardier, Inc. service information, contact Bombardier Business Aircraft Customer Response Center, 400 Côte Vertu Road West, Dorval, Québec H4S 1Y9, Canada; phone 514-855-2999; email ac.yul@aero.bombardier.com; website bombardier.com.

• You may view this service information at the FAA, Airworthiness Products Section, Operational Safety Branch, 2200 South 216th Street, Des Moines, WA. For information on the availability of this material at the FAA, call 206-231-3195.

FOR FURTHER INFORMATION CONTACT: Steven Dzierzynski, Aviation Safety Engineer, FAA, 1600 Stewart Avenue, Suite 410, Westbury, NY 11590; phone: 516-228-7300; email: 9-avs-nyaco-cos@faa.gov.

SUPPLEMENTARY INFORMATION:

Comments Invited

The FAA invites you to send any written relevant data, views, or arguments about this proposal. Send your comments to an address listed under ADDRESSES. Include “Docket No. FAA-2024-1469; Project Identifier MCAI-2024-00130-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Dzierzynski, Aviation Safety Engineer, FAA, 1600 Stewart Avenue, Suite 410, Westbury, NY 11590; phone: 516-228-7300; email: 9-avs-nyaco-cos@faa.gov. Any commentary that the FAA receives which is not specifically designated as CBI will be placed in the public docket for this rulemaking.

Background

The FAA issued AD 2009-25-13, Amendment 39-16133 (74 FR 65401, December 10, 2009) (AD 2009-25-13), for certain Bombardier, Inc., Model BD-100-1A10 airplanes. AD 2009-25-13 was prompted by MCAI originated by Transport Canada, which is the aviation authority for Canada. Transport Canada issued AD CF-2009-38, dated October 15, 2009 (Transport Canada AD CF 2009-38), to correct an unsafe condition.

AD 2009-25-13 requires the deactivation of the LH baggage bay heater. The FAA issued AD 2009-25-13 to address the possibility of uncontrolled heating by the heater panel, and on the baggage bay compartment, that could lead to flammability issues.

Actions Since AD 2009-25-13 Was Issued

Since the FAA issued AD 2009-25-13, Transport Canada issued AD CF-2023-72, dated October 18, 2023 (Transport Canada AD CF-2023-72) (referred to after this as the MCAI), to correct an unsafe condition on certain Bombardier, Inc., Model BD-100-1A10 airplanes. The MCAI states that new procedures have been developed for modifications of the baggage bay sidewall interior panel, heater mat, and water tank heater installation that will address the unsafe condition. The FAA is proposing this AD to address the unsafe condition on these products.

You may examine the MCAI in the AD docket at regulations.gov under Docket No. FAA-2024-1469.

Related Service Information Under 1 CFR Part 51

The FAA reviewed Bombardier Service Bulletin 100-25-35, Revision 02, dated January 11, 2016. This service information specifies procedures for modifying the LH baggage bay sidewall interior panel and heater mat, installing a LH baggage bay sidewall interior panel blind insert for certain airplanes, modifying the wiring of the LH and right-hand (RH) baggage bay sidewall heater mats, re-identifying the LH heater mat as P/N 3436-07, installing LH and RH heater pictograms for certain airplanes, modifying the water tank heater installation, and performing a functional test.

This proposed AD would also require Bombardier Service Bulletin A100-25-30, dated July 20, 2009, which the Director of the Federal Register approved for incorporation by reference as of December 28, 2009 (74 FR 65401, December 10, 2009).

This service information is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and service information referenced above. The FAA is issuing this NPRM after determining that unsafe condition described previously is likely to exist or develop on other products of the same type design.

Proposed AD Requirements in This NPRM

This proposed AD would retain all of the requirements of AD 2009-25-13. This proposed AD would require accomplishing the actions specified in the service information described previously, which would terminate the retained requirements of AD 2009-25-13. This proposed AD would also prohibit the installation of affected parts.

Costs of Compliance

The FAA estimates that this AD, if adopted as proposed, would affect 340 airplanes of U.S. registry. The FAA estimates the following costs to comply with this proposed AD:

Estimated Costs for Required Actions
Action | Labor cost | Parts cost | Cost per product | Cost on U.S. operators
Heater mat deactivation (Retained actions from AD 2009-25-13) | 1 work-hour × $85 per hour = $85 | $0 | $85 | $28,900
Modification and testing (new proposed actions) | 12 work-hours × $85 per hour = $1,020 | 1,150 | 2,170 | 737,800

The FAA has included all known costs in its cost estimate. According to the manufacturer, however, some or all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing airworthiness directive AD 2009-25-13, Amendment 39-16133 (74 FR 65401, December 10, 2009) (AD 2009-25-13); and

b. Adding the following new airworthiness directive:

Bombardier, Inc.: Docket No. FAA-2024-1469; Project Identifier MCAI-2024-00130-T.

(a) Comments Due Date

The FAA must receive comments on this airworthiness directive (AD) by July 8, 2024.

(b) Affected ADs

This AD replaces AD 2009-25-13, Amendment 39-16133 (74 FR 65401, December 10, 2009) (AD 2009-25-13).

(c) Applicability

This AD applies to Bombardier, Inc., Model BD-100-1A10 airplanes, certificated in any category, serial numbers 20003 through 20364 inclusive, 20366, 20367, 20369, and 20372.

(d) Subject

Air Transport Association (ATA) of America Code 25, Equipment/Furnishings.

(e) Reason

This AD was prompted by reports of the baggage bay sidewall heater mat malfunctioning and by the development of a new design solution for the potential uncontrolled heating of the heater mats. The FAA is issuing this AD to address malfunctioning of a baggage bay sidewall heater mat. The unsafe condition, if not addressed, could result in a fire in the baggage bay.

(f) Compliance

Comply with this AD within the compliance times specified, unless already done.

(g) Retained Actions, With No Changes

This paragraph restates the requirements of paragraph (g) of AD 2009-25-13, with no changes. Within 100 flight hours after December 28, 2009 (the effective date of AD 2009-25-13), deactivate the left-hand (LH) baggage bay sidewall heater having part number (P/N) 3436-06-1/0, in accordance with Bombardier Service Bulletin A100-25-30, dated July 20, 2009.

(h) New Requirement of This AD: Modification

Within 36 months after the effective date of this AD, do the applicable actions specified in paragraphs (h)(1) through (7) of this AD, in accordance with paragraphs 2.B. through 2.E. of the Accomplishment Instructions of Bombardier Service Bulletin 100-25-35, Revision 02, dated January 11, 2016.

(1) Remove the baggage bay sidewall heater mat part number (P/N) 3436-06-1/0 from the LH sidewall panel.

(2) Modify the LH baggage bay sidewall interior panel and heater mat.

(3) Modify the wiring of the LH and right-hand (RH) baggage bay sidewall heater mats.

(4) Reidentify the LH baggage bay sidewall heater mat as P/N 3436-07.

(5) For airplanes having serial numbers (S/N) 20124, 20125, 20128, 20134, 20139, 20143, 20146, and 20148 to 20215 inclusive: install LH baggage bay sidewall interior panel blind insert.

(6) For airplanes having S/N 20003 to 20259 inclusive: install LH and RH heater pictogram.

(7) Modify the water tank heater installation.

(i) New Requirement of This AD: Functional Test

Before further flight after completing paragraph (h) of this AD, perform the functional tests, in accordance with paragraph 2.F. of the Accomplishment Instructions of Bombardier Service Bulletin 100-25-35, Revision 02, dated January 11, 2016.

(j) Terminating Action for Heater Mat Deactivation

Modifying and testing an airplane as required by paragraphs (h) and (i) of this AD terminate the requirements of paragraph (g) of this AD.

(k) Credit for Previous Actions

This paragraph provides credit for actions required by paragraphs (h) and (i) of this AD, if those actions were performed before the effective date of this AD using Bombardier Service Bulletin 100-25-35, dated November 15, 2012, or Bombardier Service Bulletin 100-25-35, Revision 01, dated September 23, 2013.

(l) Additional AD Provisions

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (m) of this AD. Information may be emailed to: 9-AVS-NYACO-COS@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(m) Additional Information

For more information about this AD, contact Steven Dzierzynski, Aviation Safety Engineer, FAA, 1600 Stewart Avenue, Suite 410, Westbury, NY 11590; phone: 516-228-7300; email: 9-avs-nyaco-cos@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on [DATE 35 DAYS AFTER PUBLICATION OF THE FINAL RULE].

(i) Bombardier Service Bulletin 100-25-35, Revision 02, dated January 11, 2016.

(ii) [Reserved]

(4) The following service information was approved for IBR on December 28, 2009 (74 FR 65401, December 10, 2009).

(i) Bombardier Service Bulletin A100-25-30, dated July 20, 2009.

(ii) [Reserved]

(5) For Bombardier, Inc. service information, contact Bombardier Business Aircraft Customer Response Center, 400 Côte-Vertu Road West, Dorval, Québec H4S 1Y9, Canada; phone 514-855-2999; email ac.yul@aero.bombardier.com; website bombardier.com.

(6) You may view this service information at the FAA, Airworthiness Products Section, Operational Safety Branch, 2200 South 216th Street, Des Moines, WA. For information on the availability of this material at the FAA, call 206-231-3195.

(7) You may view this material at the National Archives and Records Administration (NARA). For information on the availability of this material at NARA, visit www.archives.gov/federal-register/cfr/ibr-locations, or email fr.inspection@nara.gov.

Issued on May 14, 2024.
James D. Foltz,
Deputy Director, Compliance & Airworthiness Division, Aircraft Certification Service.

[FR Doc. 2024-10964 Filed 5-21-24; 8:45 am]

BILLING CODE 4910-13-P